DEPARTMENT OF COMMERCE

National Oceanic and Atmospheric Administration

RIN 0648-XA425

Endangered Species; File No. 15661

AGENCY: National Marine Fisheries Service (NMFS), National Oceanic and Atmospheric Administration (NOAA), Commerce.

ACTION: Notice; receipt of application for a permit modification

SUMMARY: Notice is hereby given that the Commonwealth of the Northern Mariana Islands (CNMI) Department of Lands and Natural Resources, PO Box 10007, Saipan, MP 96950 (Arnold Palacios, Responsible Party), has requested a modification to scientific research Permit No. 15661.

DATES: Written, telefaxed, or email comments must be received on or before July 25, 2013.

ADDRESSES: The modification request and related documents are available for review by selecting “Records Open for Public Comment” from the Features box on the Applications and Permits for Protected Species (APPS) home page, https://apps.nmfs.noaa.gov/, and then selecting File No. 15661 from the list of available applications. These documents are also available upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Colette Cairns or Amy Hapeman, (301) 427-8401.

SUPPLEMENTARY INFORMATION: The subject modification to Permit No. 15661, issued on January 24, 2012 (77 FR 13097) is requested under the authority of the Endangered Species Act of 1973, as amended (16 U.S.C. 1531 et seq.) and the regulations governing the taking, importing, and exporting of endangered and threatened species (50 CFR 222-226).

Permit No. 15661 authorizes the permit holder to characterize population structure, size class composition, foraging ecology, and migration patterns for green (Chelonia mydas) and hawksbill (Eretmochelys imbricata) sea turtles in the Northern Mariana Islands (NMI). Authorized research consists of counts and hand captures of sea turtles during vessel surveys. Captured sea turtles may be measured, weighed, flipper and passive integrated transponder tagged, temporarily marked, tissue sampled, photographed and released. A subset of the turtles may be satellite tagged before release and then tracked from the vessel. Sea turtle carcasses, tissues or parts may be opportunistically salvaged each year.

The permit holder now requests authorization to collect blood and scute samples from up to 20 green and 20 hawksbill sea turtles per year, a subset of those currently authorized for capture. This sampling would allow for analysis of a broad suite of environmental pollutants that may be threatening the health of sea turtles in the NMI. All other research objectives, capture methods, take numbers, action areas, and activities would remain unchanged. The modification would be valid until the permit expires on January 31, 2017.

Dated: June 19, 2013.
P. Michael Payne,
Chief, Permits and Conservation Division, Office of Protected Resources, National Marine Fisheries Service.

[FR Doc. 2013-15085 Filed 6-24-13; 8:45 am]

BILLING CODE 3510-22-P